DEPARTMENT OF ENERGY

Federal Energy Regulatory Commission

[Docket No. CP02-229-002]

SG Resources Mississippi, L.L.C.; Notice of Application for Amendments and Request for Reaffirmation of Market Based Rate Authorization

August 3, 2006.

Take notice that on July 21, 2006, SG Resources Mississippi, L.L.C. (SGR), 7500 San Felipe, Suite 600, Houston, Texas 77063, filed with the Federal Energy Regulatory Commission an abbreviated application under section 7 of the Natural Gas Act (NGA) for an order amending the certificate of public convenience and necessity issued in Docket No. CP02-229-000.

SGR seeks authorization to: (1) Increase the working gas capacity of each of the two natural gas storage caverns previously authorized as part of the Southern Pines Energy Center currently under construction in Greene County, Mississippi from 6 Bcf each to 8 Bcf each; (2) develop a third cavern having working gas capacity of 8 Bcf; (3) construct two additional brine disposal wells; (4) construct, own, operate and maintain approximately 26 miles of dual 24-inch diameter bi-directional natural gas pipelines and associated facilities that will interconnect the Southern Pines Energy Center with the natural gas pipeline facilities of Florida Gas Transmission Company and Transcontinental Gas Pipe Line Corporation (the FGT/Transco Lateral); and (5) eliminate one of the two originally-certificated, 3.13-mile-long, 24-inch diameter pipelines extending from the storage facility to an interconnection with the Destin Pipeline Company, LLC pipeline system. SGR's application also seeks reaffirmation of its previously-granted authorization to charge market-based rates for its storage and hub services.

This application is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Any questions about this application should be directed to James F. Bowe, Jr., Dewey Ballantine LLP, 1775 Pennsylvania Avenue, NW., Washington, DC 20006-4605, 202-429-1444 (phone)/202-429-1579 (fax), jbowe@deweyballantine.com.

There are two ways to become involved in the Commission's review of this project. First, any person wishing to obtain legal status by becoming a party to the proceedings for this project should, on or before the comment date listed below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of this filing and all subsequent filings made with the Commission and must mail a copy of all filing to the applicant and to every other party in the proceeding. Only parties to the proceeding can ask for court review of Commission orders in the proceeding.

However, other persons do not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to this project provide copies of their protests only to the party or parties directly involved in the protest.

Persons who wish to comment only on the environmental review of this project, or in support of or in opposition to this project, should submit an original and two copies of their comments to the Secretary of the Commission. Environmental commenters will be placed on the Commission's environmental mailing list, will receive copies of the environmental documents, and will be notified of meetings associated with the Commission's environmental review process. Environmental commenters will not be required to serve copies of filed documents on all other parties. The Commission's rules require that persons filing comments in opposition to the project provide copies of their protests only to the applicant. However, the non-party commenters will not receive copies of all documents filed by other parties or issued by the Commission (except for the mailing of environmental documents issued by the Commission) and will not have the right to seek court review of the Commission's final order.

The Commission strongly encourages electronic filings of comments, protests, and interventions via the internet in lieu of paper. See 18 CFR 385.2001(a)(1)(iii) and the instructions on the Commission's Web site (www.ferc.gov) under the “e-Filing” link.

Comment Date: August 24, 2006.

Magalie R. Salas,
Secretary.

[FR Doc. E6-13068 Filed 8-9-06; 8:45 am]

BILLING CODE 6717-01-P